DEPARTMENT OF ENERGY

Federal Energy Regulatory Commission

[Docket No. IC20-15-000]

Commission Information Collection Activities (FERC-510); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the proposed extension of currently approved information collection, FERC-510 (Application for Surrender of a Hydropower License).

DATES: Comments on the collection of information are due June 19, 2020.

ADDRESSES: You may submit comments (identified by Docket No. IC20-15-000) by either of the following methods:

• eFiling at Commission's website: http://www.ferc.gov/docs-filing/efiling.asp

• Mail/Hand Delivery/Courier: Federal Energy Regulatory Commission, Secretary of the Commission, at Health and Human Services, 12225 Wilkins Avenue, Rockville, Maryland 20852.

Instructions: All submissions must be formatted and filed in accordance with submission guidelines at: http://www.ferc.gov/help/submission-guide.asp. For user assistance, contact FERC Online Support by email at ferconlinesupport@ferc.gov, or by phone at (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION: Title: FERC-510, Application for Surrender of a Hydropower License.

OMB Control No.: 1902-0068.

Type of Request: Three-year extension of the FERC-510 information collection requirements with no changes to the current reporting and recordkeeping requirements.

Abstract: The information collected under the requirements of FERC-510 is used by the Commission to implement the statutory provisions of sections 4(e), 6, and 13 of the Federal Power Act (FPA) (16 U.S.C. 797(e), 799 and 806). Section 4(e) gives the Commission authority to issue licenses for the purposes of constructing, operating and maintaining dams, water conduits, reservoirs, powerhouses, transmission lines or other power project works necessary or convenient for developing and improving navigation, transmission and utilization of power using bodies of water over which Congress has jurisdiction. Section 6 gives the Commission the authority to prescribe the conditions of licenses including the revocation or surrender of the license. Section 13 defines the Commission's authority to delegate time periods for when a license must be terminated if project construction has not begun. Surrender of a license may be desired by a licensee when a licensed project is retired or not constructed or natural catastrophes have damaged or destroyed the project facilities.

FERC-510 is the application for the surrender of a hydropower license. The information is used by Commission staff to determine the broad impact of such surrender. The Commission will issue a notice soliciting comments from the public and other agencies and conduct a careful review of the application before issuing an order for Surrender of a License. The order is the result of an analysis of the information produced (i.e., dam safety, public safety, and environmental concerns, etc.), which is examined to determine whether any conditions must be satisfied before granting the surrender. The order implements the existing regulations and is inclusive for surrender of all types of hydropower licenses issued by FERC and its predecessor, the Federal Power Commission. The Commission implements these mandatory filing requirements in the Code of Federal Regulations (CFR) under 18 CFR 6.1-6.4.

Type of Respondent: Private or Municipal Hydropower Licensees.

Estimate of Annual Burden ¹: The Commission estimates the total annual burden and cost ² for this information collection as follows:

¹ “Burden” is the total time, effort, or financial resources expended by persons to generate, maintain, retain, or disclose or provide information to or for a Federal agency. For additional information, refer to Title 5 Code of Federal Regulations 1320.3.

² The Commission staff thinks that the average respondent for this collection is similarly situated to the Commission, in terms of salary plus benefits. The FERC 2019 average salary plus benefits for one FERC full-time equivalent (FTE) is $167,091/year (or $80.00/hour).

FERC-510
Number of respondents | Annual number of responses per respondent | Total number of responses | Average burden hrs. & cost ($) per response | Total annual burden hrs. & total annual cost ($) | Cost per respondent ($)
(1) | (2) | (1)*(2) = (3) | (4) | (3)*(4) = (5) | (5) ÷ (1)
8 | 1 | 8 | 80 hrs.; $6,400 | 640 hrs.; $51,200 | $6,400

Comments: Comments are invited on: (1) Whether the collection of information is necessary for the proper performance of the functions of the Commission, including whether the information will have practical utility; (2) the accuracy of the agency's estimate of the burden and cost of the collection of information, including the validity of the methodology and assumptions used; (3) ways to enhance the quality, utility, and clarity of the information collection; and (4) ways to minimize the burden of the collection of information on those who are to respond, including the use of automated collection techniques or other forms of information technology.

Dated: April 14, 2020.
Kimberly D. Bose,
Secretary.

[FR Doc. 2020-08258 Filed 4-17-20; 8:45 am]

BILLING CODE 6717-01-P